U.S.-CHINA ECONOMIC AND SECURITY REVIEW COMMISSION

Notice of Open Public Hearing

AGENCY: U.S.-China Economic and Security Review Commission.

ACTION: Notice of open public hearing—July 14, 2010, Washington, DC.

SUMMARY: Notice is hereby given of the following hearing of the U.S.-China Economic and Security Review Commission.

Name: Daniel M. Slane, Chairman of the U.S.-China Economic and Security Review Commission.

The Commission is mandated by Congress to investigate, assess, and report to Congress annually on “the national security implications of the economic relationship between the United States and the People's Republic of China.”

Pursuant to this mandate, the Commission will hold a public hearing in Toledo, OH on July 14, 2010, titled “The Challenge of China's Green Technology Policy and Ohio's Response.”

Background

This is the eighth public hearing the Commission will hold during its 2010 report cycle to collect input from leading academic, industry, and government experts on national security implications of the U.S. bilateral trade and economic relationship with China. The July 14 hearing will examine the implications for the United States of China's policies for promoting domestic clean energy technology industry for the United States; the challenges and opportunities presented by the growth of Chinese green technology sector; consequences for local business of competition with Chinese companies; current efforts by both the Ohio State government, industry leaders and other institutions to respond to the challenge of China and promote economic growth in the region; and the steps the U.S. federal government should take in response to these developments. The July 14 hearing will be Co-chaired by Commissioners Carolyn Bartholomew and Peter Brooks.

Any interested party may file a written statement by July 14, 2010, by mailing to the contact below. On July 14, the hearing will be held in two sessions, one in the morning and one in the afternoon. A portion of each panel will include a question and answer period between the Commissioners and the witnesses.

Transcripts of past Commission public hearings may be obtained from the USCC Web site http://www.uscc.gov.

Date and Time: Wednesday, July 14, 2010, 9 a.m. to 4 p.m. Eastern Daylight Time. A detailed agenda for the hearing will be posted to the Commission's Web site at http://www.uscc.gov as soon as available.

ADDRESSES: The hearing will be held at the Hilton Toledo, 3100 Glendale Avenue, Toledo, OH 43614. Public seating is limited to about 50 people on a first come, first served basis. Advance reservations are not required.

FOR FURTHER INFORMATION CONTACT: Any member of the public wishing further information concerning the hearing should contact Michael Danis, Executive Director, 444 North Capitol Street, NW., Suite 602, Washington, DC 20001; phone: 202-624-1410, or via e-mail at mdanis@uscc.gov.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005).

Dated: June 29, 2010.
Michael Danis,
Executive Director, U.S.-China Economic and Security Review Commission.

[FR Doc. 2010-16242 Filed 7-2-10; 8:45 am]

BILLING CODE 1137-00-P